DEPARTMENT OF COMMERCE

International Trade Administration

[A-588-810]

Mechanical Transfer Presses from Japan: Extension of Time Limit for Preliminary Results of Antidumping Duty Administrative Review, and Preliminary Rescission, in Part, of Antidumping Duty Administrative Review

AGENCY: Import Administration, International Trade Administration, Department of Commerce.

SUMMARY: The Department of Commerce is extending the time limit for the preliminary results of the administrative review of mechanical transfer presses (MTPs) from Japan until no later than February 28, 2003. The period of review is February 1, 2001 through January 31, 2002. This extension is made pursuant to section 751(a)(3)(A) of the Tariff Act of 1930, as amended (the Act).

EFFECTIVE DATE: November 1, 2002.

FOR FURTHER INFORMATION CONTACT: Jacqueline Arrowsmith, Office of AD/CVD Enforcement VII, Import Administration, International Trade Administration, U.S. Department of Commerce, 14th Street and Constitution Avenue, N.W., Washington D.C. 20230; telephone: (202) 482-5255.

SUPPLEMENTARY INFORMATION:

The Applicable Statute

Unless otherwise indicated, all citations to the statute are references to the Act. In addition, unless otherwise indicated, all citations to the Department's regulations are to the regulations codified at 19 CFR Part 351 (2001).

Background

On February 19, 2001, the Department of Commerce (the Department) received a timely request for administrative review of the antidumping duty order on MTPs from Japan from respondent Hitatchi Zosen Corporation (HZC), and its subsidiary Hitatchi Zosen Fukui Corporation d/b/a H&F Corporation (H&F). See Antidumping Duty Order: Mechanical Transfer Presses from Japan, 55 FR 5642 (February 16, 1990). On February 28, 2001, the Department received a timely request from the petitioner, IHI-Verson Press Technology, LLC, for an administrative review of HZC, H&F, Komatsu, Ltd., and Komatsu American Industries, LLC. On March 27, 2002, the Department published a notice of initiation of this administrative review, covering the period of February 1, 2001 through January 31, 2002 (see 67 FR 14696), for HZC and its subsidiary H&F, and Komatsu, Ltd. On May 22, 2002, we published Mechanical Transfer Presses from Japan: Final Results of Antidumping Duty Administrative Review and Revocation, in-Part, in which we revoked this antidumping duty order, in part, with respect to Komatsu, Ltd. The revocation was effective for subject merchandise entered, or withdrawn from warehouse, for consumption on or after February 1, 2001. See 67 FR 35958. Therefore, we are preliminarily rescinding this review with respect to Komatsu, Ltd. The preliminary results for HZC/H&F are currently due no later than October 31, 2002.

Extension of Time Limits for Preliminary Results

Due to several complex issues involving normal value, it is not practicable to complete this review within the time limits mandated by section 751(a)(3)(A) of the Act. The Department is therefore extending the time period for issuing the preliminary results of this review by 120 days, from October 31, 2002, until no later than February 28, 2003, in accordance with section 751(a)(3)(A) of the Act. The final results continue to be due 120 days after the publication of the preliminary results. This notice is published pursuant to sections 751(a)(3)(A) and 777(i)(1) of the Act.

Dated: October 25, 2002.
Richard O. Weible,
Acting Deputy Assistant Secretary for Import Administration, Group III.

[FR Doc. 02-27854 Filed 10-31-02; 8:45 am]

BILLING CODE 3510-DS-S